MILLENNIUM CHALLENGE CORPORATION

[MCC FR 20-03]

Renewal of the MCC Advisory Council and Call for Nominations

AGENCY: Millennium Challenge Corporation.

ACTION: Notice.

SUMMARY: In accordance with the requirements of the Federal Advisory Committee Act, the Millennium Challenge Corporation (“MCC”) has renewed the charter for the MCC Advisory Council (“Advisory Council”) and is hereby soliciting representative nominations for the 2020-2022 term. The Advisory Council serves MCC in an advisory capacity only and provides insight regarding (i) innovations in relevant sectors including technology, infrastructure and blended finance; (ii) perceived risks and opportunities in MCC partner countries; and (iii) evolving approaches to working in developing country contexts. The Advisory Council provides a platform for systematic engagement with the private sector and contributes to MCC's mission—to reduce poverty through sustainable, economic growth. MCC uses this advice, information, and recommendations to inform compact development and implementation, and broaden public and private sector partnerships for more impact and leverage. The MCC Vice President of the Department of Compact Operations affirms that the Advisory Council is necessary and in the public interest. The Advisory Council is seeking members representing a diverse group of private sector organizations with expertise in infrastructure, business and finance and technology, particularly in the countries and regions where MCC operates. Additional information about MCC and its portfolio can be found at www.mcc.gov.

DATES: Nominations for Advisory Council members must be received on or before 5 p.m. EDT on August 12, 2020. Further information about the nomination process is included below. MCC plans to host the first meeting of the 2020-2022 term of the MCC Advisory Council in Fall 2020. The Advisory Council will meet at least two times a year in Washington, DC or via video/teleconferencing. Members who are unable to attend in-person meetings may have the option to dial-in via video/teleconferencing.

SUPPLEMENTARY INFORMATION: The Advisory Council shall consist of not more than twenty-five (25) individuals who are recognized thought leaders, business leaders and experts representing US companies, the business community, advocacy organizations, non-profit organizations, foundations, and sectors including infrastructure, information and communications technology (“ICT”), and finance, as well as the environment and sustainable development. Qualified individuals may self-nominate or be nominated by any individual or organization. To be considered for the Advisory Council, nominators should submit the following information:

• Name, title, organization and relevant contact information (including phone, mailing address, and email address) of the individual under consideration;

• A letter, on organization letterhead, containing a brief description of why the nominee should be considered for membership;

• Short biography of nominee including professional and academic credentials;

Please do not send company, trade association, or organization brochures or any other information. Materials submitted should total two pages or less. Should more information be needed, MCC staff will contact the nominee, obtain information from the nominee's past affiliations, or obtain information from publicly available sources.

All members of the Advisory Council will be independent of the agency, representing the views and interests of their respective industry or area of expertise, and not as Special Government employees. All members shall serve without compensation.

Nominees selected for appointment to the Advisory Council will be notified by return email and receive a letter of appointment. A selection team comprised of representatives from several MCC departments will review the nomination packages. The selection team will make recommendations regarding membership to the MCC Vice President of the Department of Compact Operations based on criteria including:

(1) Professional or academic expertise, experience, and knowledge; (2) stakeholder representation; (3) availability and willingness to serve; (4) skills working collaboratively on committees and advisory panels; and (5) professional recommendations, if any (recommendations are optional). Based upon the selection team's recommendations, the MCC Vice President of the Department of Compact Operations will select representatives. In the selection of members for the Advisory Council, MCC will seek to ensure a balanced representation and consider a cross-section of those directly affected, interested, and qualified, as appropriate to the nature and functions of the Advisory Council. Nominations are open to all individuals without regard to race, color, religion, sex, gender, national origin, age, mental or physical disability, marital status, or sexual orientation. MCC also encourages geographic diversity in the composition of the Advisory Council.

FOR FURTHER INFORMATION CONTACT: Nominators are asked to send all nomination materials by email to MCCAdvisoryCouncil@mcc.gov. While email is strongly preferred, nominators may send nomination materials by mail to 1099 14th St NW Suite 700, Washington, DC 20005. Requests for additional information can also be directed to Jennifer Rimbach, 202.521.3932, MCCAdvisoryCouncil@mcc.gov.

Dated: July 1, 2020.
Jeanne M. Hauch,
VP/General Counsel and Corporate Secretary.

[FR Doc. 2020-14662 Filed 7-7-20; 8:45 am]

BILLING CODE 9211-03-P